DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G of the Health Insurance Portability and Accountability Act (HIPPA) of 1996, as amended. This listing contains the name of each individual losing United States citizenship (within the meaning of section 877(a) or 877A) with respect to whom the Secretary received information during the quarter ending December 31, 2012. For purposes of this listing, long-term residents, as defined in section 877(e)(2), are treated as if they were citizens of the United States who lost citizenship.

Last name | First name | Middle name/initials
BOGUSKI | SARAH | ALYSON
BRENNINKMEYER | BERNARD | ANTHONY
BRIGGS | THOMAS | MARTIN
BROWN | LAVINA | RUTH
BUCHANAN | ROBERT | CHRISTIAN
CHEUNG | ALLISON |
CHO | MICHAEL | KIM
DE LAUBESPIN | ELEONORE | M J M BONAERT
DE MAREDSOUS | OLIVIER | JOHN DESCLEE
EISENMEYER | HANS | MARTIN
ELLIS | BILLY | CAROL
ELLIS | DENISE | T
GIBSON | MARGARET | JEAN
GOULANDRIS | PETER | N
HAUDENSCHILD | ROBERT | DANIEL
HESS | JOCELYN | CAMPOS
HIGHFIELD | TUCKER | M
JONSSON | N STEPHAN | W
LEUNG | JANICE | T L
LEVY-LANG | LAURENCE | MARTINE
MARC | MICHAEL | JOSEPH
MARSDEN | DAPHNE | JILL
MAR-TANG | SUE |
MASUDA | TAKASHI |
MAYER-BIENVENU | JESSICA | S
MILLMAN | BARRY |
MOHR | FREDERIC | ANDREAS
MOSER | ALFRED |
MOSER | MARTINA |
PARGAS | DAMIAN | ALAN
PAULI | MADELAINE | DORIS
PICARD | DAVID | HENRY
PREST | MARIE | THERESE
RIS-SCHNEEBERGER | ANNE | K
ROBINSON JR | RUSSELL |
SALMAND | KARINE |
SCHMITH | SCOTT | CHARLES
SHOLSETH | THOMAS | JOSEPH
SIGG | ALFRED |
STEWART | HOLLY | DAWN
STUDER | ANTON | ALOIS
VAN RAVENSTEIN | ADRIAAN | JILLARDUE EMILIUS
VARMA | SANJAY |
VOGELE | MAX | MANUEL
WOLFSON | KAREN | JANE

Dated: January 29, 2013.
Ann V. Gaudelli,
Manager, Team 103, Examinations Operations—Philadelphia Compliance Services.

[FR Doc. 2013-03378 Filed 2-13-13; 8:45 am]

BILLING CODE 4830-01-P